INTER-AMERICAN FOUNDATION BOARD MEETING

Sunshine Act Meetings

TIME AND DATE: March 28, 2011, 9 a.m.-1:30 p.m.

PLACE: 901 N. Stuart Street, Tenth Floor, Arlington, Virginia 22203.

STATUS: Open session

MATTERS TO BE CONSIDERED:

• Approval of the Minutes of the December 13, 2010, Meeting of the Board of Directors

• President's Report

• Foundation Programs

• Budget/Fiscal Situation

• Congressional Affairs

• Strategic Planning

• Advisory Council

• RedEAmérica

• Website Demonstration

• Next Meetings

PORTIONS TO BE OPEN TO THE PUBLIC: • Approval of the Minutes of the December 13, 2010, Meeting of the Board of Directors

• President's Report

• Foundation Programs

• Budget/Fiscal Situation

• Congressional Affairs

• Strategic Planning

• Advisory Council

• RedEAmérica

• Website Demonstration

• Next Meetings

PORTIONS TO BE CLOSED TO THE PUBLIC: • None

CONTACT PERSON FOR MORE INFORMATION: Jennifer Hodges Reynolds.

Jennifer Hodges Reynolds,
General Counsel, (703) 306-4301.

[FR Doc. 2011-6816 Filed 3-18-11; 4:15 pm]

BILLING CODE 7025-01-P